DEPARTMENT OF THE TREASURY

Internal Revenue Service

Advisory Committee to the Internal Revenue Service; Meeting

AGENCY: Internal Revenue Service (IRS), Treasury.

ACTION: Notice.

SUMMARY: The Information Reporting Program Advisory Committee (IRPAC) will hold a public meeting on Thursday, October 27, 2005.

FOR FURTHER INFORMATION CONTACT: Ms. Caryl Grant, National Public Liaison, CL:NPL:SRM, Room 7566 IR, 1111 Constitution Avenue, NW., Washington, DC 20224. Telephone: 202-927-3641 (not a toll-free number). E-mail address: public_liaison@irs.gov.

SUPPLEMENTARY INFORMATION: Notice is hereby given pursuant to section 10(a)(2) of the Federal Advisory Committee Act, 5 U.S.C. App. (1988), a public meeting of the IRPAC will be held on Thursday, October 27, 2005, from 9 a.m. to 1 p.m. in Room 3313, main Internal Revenue Service building, 1111 Constitution Avenue, NW., Washington, DC 20224. Issues to be discussed include: Qualified Foreign Dividends, Form 6166 Foreign Certification Requests, Information Reporting of Corporate Transactions, Practitioner Reference Guide, Meal and Snack Deductions for Home Daycare, TIN Matching Program, FBAR report, Internet Auctions, Elected Deferrals treated as Designated Roth Contributions, and Special Reporting and Withholding Requirements for Distributions Initiated by a Plan Administrator or IRA Custodian/Trustee. Reports from the four IRPAC sub-groups, Tax Exempt & Government Entities, Large and Mid-size Business, Small Business/Self-Employed, and Wage & Investment, will also be presented and discussed. Last minute agenda changes may preclude advance notice. The meeting room accommodates approximately 50 people, IRPAC members and Internal Revenue Service officials inclusive. Due to limited seating and security requirements, please call Caryl Grant to confirm your attendance. Ms. Grant can be reached at 202-927-3641. Attendees are encouraged to arrive at least 30 minutes before the meeting begins to allow sufficient time for purposes of security clearance. Please use the main entrance at 1111 Constitution Avenue to enter the building. Should you wish the IRPAC to consider a written statement, please call 202-927-3641, or write to: Internal Revenue Service, Office of National Public Liaison, CL:NPL:SRM, 1111 Constitution Avenue, NW., Room 7566 IR, Washington, DC 20224 or e-mail: public_liaison@irs.gov.

Dated: September 27, 2005.
C. Anthony Burke,
Branch Chief, National Public Liaison.

[FR Doc. 05-19777 Filed 10-3-05; 8:45 am]

BILLING CODE 4830-01-P